DEPARTMENT OF AGRICULTURE

Foreign Agricultural Service

Notice of Request for Approval of a New Information Collection

AGENCY: Foreign Agricultural Service, USDA.

ACTION: Notice and request for comments.

SUMMARY: In accordance with the Paperwork Reduction Act of 1995, this notice announces the intention of the Foreign Agricultural Service to request approval for a new information collection for the USDA's Trade Missions and Trade Shows Program.

DATES: Comments on this notice must be received by April 19, 2021.

ADDRESSES: You may send comments, identified by the OMB Control number 0551-NEW, by any of the following methods:

□ Federal eRulemaking Portal: http://www/regulations.gov. This portal enables respondents to enter short comments or attach a file containing lengthier comments.

□ Email: TMSAdmin@usda.gov. Include OMB Control Number 0551-NEW in the subject line of the message.

□ Mail, Courier, or Hand Delivery: Ryan Brewster, U.S. Department of Agriculture, Foreign Agricultural Service, 1400 Independence Avenue SW, Room 6085, Washington, DC 20250.

Instructions: All items submitted by mail or electronic mail must include the agency name. Comments received in response to this docket will be made available for public inspection and posted without change, including any personal information, to http://www.regulations.gov.

FOR FURTHER INFORMATION CONTACT: Ryan Brewster, Trade Missions and Shows Division, Foreign Agricultural Service, U.S. Department of Agriculture, Room 6085, Washington, DC 20250-1034, email: TMSAdmin@usda.gov.

SUPPLEMENTARY INFORMATION: Title: USDA Trade Missions and Trade Shows Program.

OMB Number: 0551-NEW.

Expiration Date of Approval: Three years from approval date.

Type of Request: New information collection.

Abstract: Under the USDA Trade Missions and Trade Shows Program, information will be gathered from applicants desiring to participate in USDA sponsored trade missions, shows, and virtual trade events to determine the eligibility of the applicants to take part in the event. Participants in USDA endorsed trade shows, trade missions, and virtual trade events under the program will be asked to voluntarily submit written survey reports regarding their satisfaction with the event and actual and projected sales data as a result of their participation in the program. Submitted information is used to develop effective programs and assure that program objectives are met.

Estimate of Burden: The public reporting burden for each respondent resulting from information collection under the USDA Trade Missions and Trade Shows Program varies in direct relation to the number of events that each respondent participates in.

Trade Missions

Type of Respondents: Private U.S. agribusinesses, U.S. agricultural cooperatives, export trade associations.

Estimated Number of Respondents: 600 per annum.

Estimated Number of Responses per Respondent: 4 per annum.

Estimated Total Annual Burden of Respondents: 600 hours per annum.

USDA-Endorsed Trade Shows

Type of Respondents: Government agencies, State Regional Trade Groups, State Departments of Agriculture, private organizations/companies, agricultural cooperatives, and export trade associations.

Estimated Number of Respondents: 1,100.

Estimated Number of Responses per Respondent: 1 per annum.

Estimated Total Annual Burden of Respondents: 330 hours.

Virtual Trade Events

Type of Respondents: private organizations, agricultural cooperatives, and export trade associations.

Estimated Number of Respondents: 600 per annum.

Estimated Number of Responses per Respondent: 3 per annum.

Estimated Total Annual Burden of Respondents: 600 hours per annum.

Copies of this information collection can be obtained from Lauren Gerald, the Agency Information Collection Coordinator, at Lauren.Gerald@usda.gov.

Request for Comments: Send comments regarding (a) whether the proposed collection of information is necessary for the proper performance of the functions of the agency, including whether the information will have practical utility; (b) the accuracy of the agency's estimate of the burden of the proposed collection of information; (c) ways to enhance the quality, utility, and clarity of the information to be collected; and (d) ways to minimize the burden of the collection of information on those who are to respond, including through the use of automated, electronic, mechanical, or other technological collection techniques or other forms of information technology.

All comments received in response to this notice, including names and addresses when provided, will be a matter of public record. Comments will be summarized and included in the submission for Office of Management and Budget approval.

E-Government Act Compliance

FAS is committed to complying with the E-Government Act of 2002, to promote the use of the internet and other information technologies to provide increased opportunities for citizen access to Government information and services, and for other purposes.

Persons with disabilities who require an alternative means for communication of information (e.g., Braille, large print, audiotape, etc.) should contact Colette Ross (Human Resources, 202-720-8805) or Jeffrey Galloway (Office of Civil Rights, 202-690-1399).

Daniel Whitley,
Acting Administrator, Foreign Agricultural Service.

[FR Doc. 2021-03165 Filed 2-16-21; 8:45 am]

BILLING CODE 3410-10-P